DEPARTMENT OF AGRICULTURE

Animal and Plant Health Inspection Service

9 CFR Part 93

[Docket No. 99-071-1]

Cattle from Australia and New Zealand; Testing Exemption

AGENCY: Animal and Plant Health Inspection Service, USDA.

ACTION: Proposed rule.

SUMMARY: We are proposing to amend the regulations regarding the importation of cattle to exempt cattle imported from Australia from testing for brucellosis and tuberculosis prior to their export to the United States. We are also proposing to amend those regulations to exempt cattle imported from New Zealand from testing for brucellosis prior to their export to the United States. We have determined that cattle imported from Australia and New Zealand present a negligible risk of introducing brucellosis into the United States and that cattle imported from Australia present a negligible risk of introducing tuberculosis into the United States. This action would relieve certain testing requirements for cattle imported from Australia and New Zealand while continuing to protect against the introduction of communicable diseases of cattle into the United States.

DATES: We invite you to comment on this docket. We will consider all comments that we receive by June 19, 2001.

ADDRESSES: Please send four copies of your comment (an original and three copies) to: Docket No. 99-071-1, Regulatory Analysis and Development, PPD, APHIS, Suite 3C03, 4700 River Road, Unit 118, Riverdale, MD 20737-1238.

Please state that your comment refers to Docket No. 99-071-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Glen I. Garris, Supervisory Staff Officer, Regionalization Evaluation Services Staff, National Center for Import and Export, VS, APHIS, 4700 River Road Unit 38, Riverdale, MD 20737-1231; (301) 734-4356.

SUPPLEMENTARY INFORMATION:

Background

The regulations in 9 CFR part 93 (referred to below as the regulations) govern the importation into the United States of specified animals and animal products to prevent the introduction into the United States of various animal diseases, including brucellosis and tuberculosis. Brucellosis is a contagious disease affecting animals and humans, caused by bacteria of the genus Brucella. In its principal animal hosts, brucellosis may cause abortion and impaired fertility. Bovine tuberculosis is a contagious, infectious, and communicable disease caused by Mycobacterium bovis. It affects cattle, bison, deer, elk, goats, and other species, including humans. Bovine tuberculosis in infected animals and humans manifests itself in lesions of the lung, bone, and other body parts, causes weight loss and general debilitation, and can be fatal.

Paragraph (a) of § 93.406 outlines procedures for the importation of cattle from other parts of the world into the United States. This paragraph details tuberculosis and brucellosis testing and certification requirements for all cattle offered for importation from any part of the world, except those intended for immediate slaughter.

Australia

The government of Australia has requested that the U.S. Department of Agriculture (USDA) exempt cattle imported from Australia from testing for brucellosis and tuberculosis. Australia has been free of tuberculosis since 1997 and free of brucellosis since 1990.

In response to the Government of Australia's request, the USDA's Animal and Plant Health Inspection Service (APHIS) has prepared a qualitative risk assessment evaluating the status of brucellosis and tuberculosis in Australia. The risk assessment is based on documentation provided by Australia regarding its veterinary infrastructure, animal health monitoring system, trading practices with other regions, and other pertinent information. The risk assessment documents Australia's freedom from both tuberculosis and brucellosis, describes the capabilities of Australia's veterinary diagnostic laboratory, and evaluates Australia's natural barriers and regulatory restrictions that serve to protect against the introduction and dissemination of disease. Copies of the risk assessment may be obtained from the person listed under FOR FURTHER INFORMATION CONTACT and through the Internet at http://www.aphis.usda.gov/vs/reg-request.html.

Based on the findings of our risk assessment, we believe that cattle imported from Australia would pose a negligible risk of introducing tuberculosis and/or brucellosis into the United States. Therefore, we are proposing to amend § 93.406 of the regulations to exempt cattle imported from Australia from testing for tuberculosis and brucellosis. However, cattle imported from Australia would still have to be quarantined under the provisions of § 93.411 and undergo any tests and procedures that may be required by the Administrator to determine their freedom from communicable diseases.

New Zealand

The government of New Zealand has requested that the USDA exempt cattle imported from New Zealand from testing for brucellosis. New Zealand has been free of brucellosis since 1989.

In response to the Government of New Zealand's request, APHIS has prepared a qualitative risk assessment evaluating the status of brucellosis in New Zealand. The risk assessment is based on documentation provided by New Zealand regarding its veterinary infrastructure, animal health monitoring system, trading practices with other regions, and other pertinent information. The risk assessment documents New Zealand's freedom from brucellosis, describes the capabilities of New Zealand's veterinary diagnostic laboratory, and evaluates New Zealand's natural barriers and regulatory restrictions that serve to protect against the introduction and dissemination of disease. Copies of the risk assessment may be obtained from the person listed under FOR FURTHER INFORMATION CONTACT and through the Internet at http://www.aphis.usda.gov/vs/reg-request.html.

Based on the findings of our risk assessment, we believe that cattle imported from New Zealand would pose a negligible risk of introducing brucellosis into the United States. Therefore, we are proposing to amend § 93.406 of the regulations to exempt cattle imported from New Zealand from testing for brucellosis. However, cattle imported from New Zealand would still have to be quarantined under the provisions of § 93.411 and undergo any tests and procedures that may be required by the Administrator to determine their freedom from communicable diseases.

Executive Order 12866 and Regulatory Flexibility Act

This proposed rule has been reviewed under Executive Order 12866. The rule has been determined to be not significant for the purposes of Executive Order 12866 and, therefore, has not been reviewed by the Office of Management and Budget.

This proposed rule would exempt cattle imported into the United States from Australia from the requirement for testing for tuberculosis and brucellosis. This proposed rule would also exempt cattle imported into the United States from New Zealand from the requirement for testing for brucellosis. This action would relieve certain testing requirements for cattle imported from Australia and New Zealand while continuing to protect against the introduction of communicable diseases of cattle into the United States.

Australia

Australia has a large cattle industry, but has minimal cattle exports to the United States. We do not expect that removing the current tuberculosis and brucellosis testing requirements would significantly affect the number of cattle imports from Australia.

The number of cattle imported into the United States from Australia has increased slightly over recent years, although in 1998, imports from Australia only represented about $101,400 of the approximately $1.148 billion value of all U.S. cattle imports. While cattle imports from Australia may continue to increase, it is unlikely that the rates of increase would be significantly affected by the removal of the current tuberculosis and brucellosis testing requirements. The costs of testing, which include veterinary fees and handling expenses, are $15.00 to $25.00 per tuberculosis test and $7.50 to $15.00 per brucellosis test, and these testing costs represent less than 2 percent of the 1998 import price for cattle from Australia. It is realistic to assume that only a fraction of the cost savings associated with the removal of tuberculosis and brucellosis testing requirements would be passed to U.S. importers.

New Zealand

There is no history of cattle imports into the United States from New Zealand. Removing the brucellosis testing requirement is not expected to significantly affect cattle imports from New Zealand.

The average value of New Zealand's cattle exports during 1995 to 1997 was $731 to $801 per head. Brucellosis testing in the United States, which includes veterinary and handling fees, costs about $7.50 to $15.00, would represent only about 1 to 2 percent of the average value of cattle exported by New Zealand. If U.S. cattle imports from New Zealand were to commence, only a fraction of this cost saving would be passed along to the importer. Therefore, this proposed change is not expected, by itself, to generate such imports.

Effects on Small Entities

The Regulatory Flexibility Act requires that the Agency specifically consider the economic effects of its rules on small entities. More than 99 percent of the 766,991 U.S. farms that reported cattle or calf sales in the most recent “Census of Agriculture” could be classified as small entities, using the Small Business Administration's criterion of annual receipts of less than $500,000. Given that there is no history of cattle imports from New Zealand and only a very low level of cattle imports from Australia, and given the minimal cost decrease that would result from the proposed testing exemptions, no effect on domestic cattle producers, large or small, is expected.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we propose to amend 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 would continue to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

2. Section 93.406 would be amended as follows:

a. In the introductory text of paragraph (a), in the first sentence, the words “in paragraph (d) of this section and” would be added immediately after the words “Except as provided”.

b. A new paragraph (d) would be added to read as follows:

§ 93.406 Diagnostic tests.

* * * * *

(d) Testing exemptions. Cattle from Australia are exempt from the tuberculosis and brucellosis testing and certification requirements of paragraph (a) of this section. Cattle from New Zealand are exempt from the brucellosis testing requirements of paragraph (a)(1) of this section.

Done in Washington, DC, this 16th day of April 2001.
Bobby R. Acord,
Acting Administrator, Animal and Plant Health Inspection Service.

[FR Doc. 01-9790 Filed 4-19-01; 8:45 am]

BILLING CODE 3410-34-U